DEPARTMENT OF THE TREASURY

Office of the Comptroller of the Currency

Agency Information Collection Activities: Submission for OMB Review; Comment Request

AGENCY: Office of the Comptroller of the Currency, Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless it displays a currently valid OMB control number. The OCC is soliciting comment concerning its information collection titled, “Minimum Security Devices and Procedures, Reports of Suspicious Activities, and Bank Secrecy Act Compliance—12 CFR 21.” The OCC also gives notice that it has sent the information collection to the Office of Management and Budget (OMB) for review.

DATES: Comments must be received by August 10, 2009.

ADDRESSES: Communications Division, Office of the Comptroller of the Currency, Public Information Room, Mailstop 2-3, Attention: 1557-0180, 250 E Street, SW., Washington, DC 20219. In addition, comments may be sent by fax to (202) 874-5274, or by electronic mail to regs.comments@occ.treas.gov. You may personally inspect and photocopy comments at the OCC, 250 E Street, SW., Washington, DC 20219. For security reasons, the OCC requires that visitors make an appointment to inspect comments. You may do so by calling (202) 874-4700. Upon arrival, visitors will be required to present valid government-issued photo identification and submit to security screening in order to inspect and photocopy comments.

Additionally, you should send a copy of your comments to OCC Desk Officer, 1557-0180, by mail to U.S. Office of Management and Budget, 725, 17th Street, NW., #10235, Washington, DC 20503, or by fax to (202) 395-6974.

FOR FURTHER INFORMATION CONTACT: You can request additional information or a copy of the collection from Mary H. Gottlieb, OCC Clearance Officer, (202) 874-5090, Legislative and Regulatory Activities Division, Office of the Comptroller of the Currency, 250 E Street, SW., Washington, DC 20219.

SUPPLEMENTARY INFORMATION: The OCC is proposing to extend OMB approval of the following information collection:

Title: Minimum Security Devices and Procedures, Reports of Suspicious Activities, and Bank Secrecy Act Compliance—12 CFR 21.

OMB Control No.: 1557-0180.

SAR Form Nos.: 8010/8010-9.

Description: This submission covers an existing regulation and involves no change to the regulation or to the information collection requirements. The OCC requests only that OMB extend its approval of the information collection.

Minimum Security Devices and Procedures (12 CFR 21.2 and 21.4)

Under §§ 21.2 and 21.4, a national bank is required to designate a security officer who must develop and administer a written security program. The security officer shall report at least annually to the bank's board of directors on the effectiveness of the security program. The substance of the report shall be reflected in the Board's minutes. These requirements ensure that the security officer is responsible for the security program and that bank management and the board of directors are aware of the content and effectiveness of the program. These requirements ensure prudent bank management and bank safety and soundness. The OCC uses the information to ensure that national banks carefully review the effectiveness of their security systems and comply with Federal law. The information collection ensures that national banks conduct their activities in accordance with safe and sound principles. A national bank's board of directors uses the information to ensure that the bank's security system is adequate.

Suspicious Activity Report (SAR) (12 CFR 21.11)

In 1992, the Department of the Treasury was granted broad authority to require suspicious transaction reporting under the Bank Secrecy Act. See 31 U.S.C. 5318(g). FinCEN, which has been delegated authority to administer the Bank Secrecy Act, joined with the bank regulators in 1996 in requiring, on a consolidated form (the SAR form), reports of suspicious transactions. See 31 CFR 103.18(a). The filing of SARs is necessary to prevent and detect crimes involving bank funds, bank insiders, criminal transactions, and money laundering. These requirements are necessary to ensure bank safety and soundness.

The Financial Crimes Enforcement Network (FinCEN) and Federal financial institution supervisory agencies ¹ (bank regulators) adopted the SAR in 1996 to simplify the process through which depository institutions (banks) inform their regulators and law enforcement about suspected criminal activity.

¹ The five Federal financial institution supervisory agencies are the Office of the Comptroller of the Currency (OCC), Board of Governors of the Federal Reserve System (FRB), Federal Deposit Insurance Corporation (FDIC), Office of Thrift Supervision (OTS), and National Credit Union Administration (NCUA).

The SAR was updated in 1999, 2002, and 2006. The 2006 revisions to the SAR form enhanced the clarity of the instructions to allow for joint filing of SARs, and improved the usefulness of the SAR to law enforcement. These revisions were originally scheduled to become effective on June 30, 2007. On May 1, 2007, FinCEN issued a notice to communicate a delay in the dates for using the revised SAR form, and stated its intention to establish new effective dates in a future notice consistent with its data quality initiatives.² FinCEN has not established new effective dates for using this revised SAR form.

² 83 FR 23891 (May 1, 2007). This announcement did not affect the BSA filing requirements, and financial institutions were to continue to use the July 2003 form until further notice. (http://www.fincen.gov/forms/files/f9022-47_sar-di.pdf).

Consistent with the 2006 revisions to the SAR form, FinCEN and the bank regulators are once again proposing to adopt the revised 2006 SAR form. This SAR form will not become effective until FinCEN establishes new dates consistent with its data quality initiatives. The OCC uses the SAR and the supporting documentation retained by national banks for supervisory purposes. The information collection identifies suspicious transactions that could pose a threat to national banks.

Banks are required to maintain a copy of any SAR filed and the original or business record equivalent of any supporting documentation for a period of five years. The documents are necessary for criminal investigations and prosecutions.

Procedures for Monitoring Bank Secrecy Act Compliance (12 CFR 21.21)

Under 12 CFR 21.21, national banks are required to develop and provide for the continued administration of a program reasonably designed to assure and monitor their compliance with the Bank Secrecy Act (BSA) and Treasury regulations at 12 CFR part 31. The compliance program shall be reduced to writing, approved by the board of directors, and noted in the minutes. These requirements are necessary to ensure bank compliance with the BSA and 12 CFR part 31. National banks use the compliance program to ensure compliance with the Bank Secrecy Act. Bank examiners review the written procedures and board approval in the examination process.

FinCEN and the Internal Revenue Detroit Computing Center (DCC) operate the computer system containing the information collected from banks. FinCEN and DCC provide on-line access to the information to representatives of bank regulators and appropriate law enforcement agencies.

Type of Review: Extension of a currently approved collection.

Affected Public: Individuals; Businesses or other for-profit.

Estimated Number of Respondents: 1,501.

Estimated Total Annual Responses: 337,421.

Frequency of Response: On occasion.

Estimated Total Annual Burden: 449,086.

OCC, FinCEN, FRB, FDIC, OTS, and NCUA issued a 60-day notice for comment on April 1, 2009. 71 FR 14863. The notice covered the information collection requirements contained in the SAR for all of the agencies and the information collection requirements in OCC's part 21. No comments were received by the OCC. FinCEN received three comments, one of which was also received by the FDIC. A comment summary is included in the information collection submitted to OMB.

The OCC invites continued comments on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: July 6, 2009.
Michele Meyer,
Assistant Director, Legislative and Regulatory Activities Division.

[FR Doc. E9-16382 Filed 7-9-09; 8:45 am]

BILLING CODE 4810-33-P